DEPARTMENT OF DEFENSE

Department of the Army; Corps of Engineers

Intent To Prepare a Draft Integrated Project Implementation Report/Environmental Impact Statement (PIR/EIS) for the Broward County Water Preserve Areas in South Florida, as Part of the Comprehensive Everglades Restoration Plan (CERP)

AGENCY: Department of the Army, U.S. Army Corps of Engineers, DOD.

ACTION: Notice of intent.

SUMMARY: The Jacksonville District, U.S. Army Corps of Engineers intends to prepare a Draft Environmental Impact Statement (DEIS) for the Broward County Water Preserve Areas Project, in South Florida. This includes the C-11 Impoundment, C-9 Impoundment, and Water Conservation Area (WCA) 3A and 3B Levee Seepage Management Areas. The study is a cooperative effort between the U.S. Army Corps of Engineers (USACE) and the South Florida Water Management District (SFWMD).

DATES: Public meetings will be held over the course of the study; the exact location, dates, and times will be announced in public notices and local newspapers.

FOR FURTHER INFORMATION CONTACT: Mr. Brad Tarr, U.S. Army Corps of Engineers, Planning Division, Environmental Branch, P.O. Box 4970, Jacksonville, FL 32232-0019, by e-mail, bradley.a.tarr@saj02.usace.army.mil, or by telephone at 904-232-3582.

SUPPLEMENTARY INFORMATION: a. Authorization: The Broward County Water Preserve Areas (Broward County WPA) project in South Florida was authorized by the Water Resources Development Act (WRDA) of 2000. Prior to the current project, a Water Preserve Areas Feasibility Study led to a publication of the Draft Feasibility Report and Supplemental Environmental Impact Statement, October 2001. The document and project were never finalized because additional information was required to comply with the requirements of WRDA 2000, which brought about the Broward County WPA project.

b. Project Scope: The primary goal of the Broward County WPA is to provide a hydrologic buffer between the Everglades and developed lands, and to assist in meeting the future water needs of all users (agriculture and urban) and the environment by supplying additional regional storage. Specific objectives include reducing demands on the Everglades and Lake Okeechobee for water supply; reducing seepage losses from the Everglades by holding more water in the natural system; improving natural hydropatterns within existing natural areas; capturing, storing, and treating stormwater currently lost to tide; and eliminating discharge of polluted water into the Everglades Protection Area.

The Broward County WPA project includes buffer marsh areas, canals, levees, water control structures and above-ground impoundments with a total storage capacity of approximately 6,000 acre-feet located in the western C-11 Canal basin and 6,600 acre-feet located in the western C-9 Canal basin in western Broward County. This multi-purpose separable element is designed to direct runoff events from the western C-11 drainage basin into the C-11 impoundment instead of pumping the untreated runoff into WCA-3A through the S-9 pump station. The purpose of the C-9 Impoundment features are to pump storm events from the western C-9 drainage basin into the impoundment along with runoff transferred from the western C-11 basin. The impoundment pools will assist in reducing seepage from adjacent natural areas WCA-3A/3B, WCA-3A/3B Seepage Management areas, providing groundwater recharge, meeting the urban area water demands, and preventing saltwater intrusion in the surficial aquifer. Another function of this separable element is the ability to reduce seepage from WCA-3A to improve hydropatterns within the WCA by allowing higher water levels in the borrow canals and maintaining longer duration inundation within the marsh areas that are located east of the WCA and west of US Highway 27. This component also will attenuate high stages in WCA-2B and divert this excess water to Northeast Shark River Slough via C-500 if there are unmet demands or for storage in the future Central Lake Belt Storage Area.

Modeling has already been conducted for the Comprehensive Review Study (Restudy) and the draft WPA Feasibility Study. The primary hydrologic model was the South Florida Water Management Model (SFWMM), version 3.5, and was used to evaluate responses to proposed structural and operational modifications to the water management system in South Florida during the Comprehensive Review Study. An evaluation of system-wide effects based upon modeling results was made relative to both the current (1995) and future (2050) base conditions and performed during the WPA Feasibility Study.

c. Preliminary Alternatives: The Restudy alternative for the Western C-11 Impoundment consists of a 1,600 ac. impoundment 4 ft. deep with appurtenant structures (providing 6,400 ac. ft. of storage volume). The Restudy alternative for WCA 3A/3B Levee Seepage Management consists of seepage levees (18 lineal miles in initial MCACES estimate) and water control structures. The Restudy alternative for the C-9 Impoundment consists of a 2,500 ac. impoundment at 4 ft. depth and appurtenant structures (providing 10,000 ac. ft. of storage volume). The initial (1999) cost estimate for these three components was $314,318,000. This alternative plan (providing 16,400 ac. ft. of impoundment storage volume plus seepage management) will be included in the evaluation.

d. Issues: The PIR/EIS will consider impacts on health and safety, aesthetics and recreation, cultural resources, socio-economic resources, hydrology, water quality, ecosystem habitat, fish and wildlife resources, threatened and endangered species, water availability, flood protection, and other impacts identified through scoping, public involvement, and interagency coordination.

e. Scoping: A scoping letter and public workshops will be used to invite comments on alternatives and issues from Federal, State, and local agencies, affected Indian tribes, and other interested private organizations and individuals.

f. Public Involvement: Public meetings will be held over the course of the study; the exact location, dates, and times will be announced in public notices and local newspapers.

g. Coordination: The proposed action is in accordance with the Fish and Wildlife Coordination Act (FWCA) of 1958 and the Endangered Species Act (ESA) of 1973. The coordinating agencies include the U.S. Fish and Wildlife Service (FWS) and the South Florida Water Management District (SFWMD).

h. Other Environmental Review and Consultation: The proposed action would involve evaluation for compliance with guidelines pursuant to Section 404(b) of the Clean Water Act.

i. Agency Role: As cooperating agency, non-Federal sponsor, and leading local expert, SFWMD will provide extensive information and assistance on the resources to be impacted, mitigation measures, and alternatives.

j. DEIS Preparation: The integrated draft Project Implementation Report (PIR), including a DEIS, is currently estimated for publication in November 2005.

Dated: July 22, 2004.
James C. Duck,
Chief, Planning Division.

[FR Doc. 04-17364 Filed 7-29-04; 8:45 am]

BILLING CODE 3710-AJ-M